DEPARTMENT OF THE INTERIOR

Fish and Wildlife Service

50 CFR Part 17

[FWS-R2-ES-2008-0065; 1111 FY07 MO-B2]

Endangered and Threatened Wildlife and Plants; Initiation of Status Review for the Northern Mexican Gartersnake (Thamnophis eques megalops)

AGENCY: Fish and Wildlife Service, Interior.

ACTION: Notice; initiation of status review and solicitation of new information.

SUMMARY: We, the U.S. Fish and Wildlife Service (Service), announce the initiation of a status review for the northern Mexican gartersnake (Thamnophis eques megalops). Through this action, we encourage all interested parties to provide us information regarding the status of, and any potential threat to, the northern Mexican gartersnake.

DATES: To allow us adequate time to conduct this review, we request that information be submitted on or before July 14, 2008.

ADDRESSES: You may submit information by one of the following methods:

• Federal eRulemaking Portal: http://www.regulations.gov. Follow the instructions for submitting comments.

• U.S. mail or hand-delivery: Public Comments Processing, Attn: FWS-R2-ES-2008-0065; Division of Policy and Directives Management; U.S. Fish and Wildlife Service; 4401 N. Fairfax Drive, Suite 222; Arlington, VA 22203.

We will not accept e-mail or faxes. We will post all information on http://www.regulations.gov. This generally means that we will post any personal information you provide us (see the Information Solicited section below for more information).

FOR FURTHER INFORMATION CONTACT: Steve Spangle, Field Supervisor, Arizona Ecological Services Office, 2321 West Royal Palm Road, Suite 103, Phoenix, AZ 85021-4951; telephone 602-242-0210; facsimile 602-242-2513. If you use a telecommunications device for the deaf (TDD), call the Federal Information Relay Service (FIRS) at 800-877-8339.

SUPPLEMENTARY INFORMATION:

Information Solicited

To ensure that the status review is complete and based on the best available scientific and commercial information, we are soliciting information concerning the status of the northern Mexican gartersnake (Thamnophis eques megalops). We request any additional information from the public, other concerned governmental agencies, Native American Tribes, the scientific community, industry, or any other interested parties on the status of the northern Mexican gartersnake throughout its range, including:

(1) Information from the United States and Mexico regarding the subspecies' historical and current population status, distribution, and trends; taxonomy; biology and ecology; and habitat selection;

(2) Information on the effects of potential threat factors in the United States and Mexico that are the basis for a listing determination under section 4(a) of the Act, which are:

(a) The present or threatened destruction, modification, or curtailment of the subspecies' habitat or range;

(b) Overutilization for commercial, recreational, scientific, or educational purposes;

(c) Disease or predation;

(d) The inadequacy of existing regulatory mechanisms; or

(e) Other natural or manmade factors affecting its continued existence.

Please note that submissions merely stating support or opposition to the action under consideration without providing supporting information, although noted, will not be considered in making a determination, because section 4(b)(1)(A) of the Act (16 U.S.C. 1531 et seq.) directs that determinations as to whether any species is a threatened or endangered species must be made “solely on the basis of the best scientific and commercial data available.” At the conclusion of the status review, we will determine whether listing is warranted, not warranted, or warranted but precluded.

You may submit your information concerning this status review by one of the methods listed in the ADDRESSES section. We will not consider submissions sent by e-mail or fax or to an address not listed in the ADDRESSES section.

If you submit information via http://www.regulations.gov, your entire submission—including any personal identifying information—will be posted on the Web site. If your submission is made via a hardcopy that includes personal identifying information, you may request at the top of your document that we withhold this personal identifying information from public review. However, we cannot guarantee that we will be able to do so. We will post all hardcopy submissions on http://www.regulations.gov.

Information and materials we receive, as well as supporting documentation we used in preparing this proposed rule, will be available for public inspection on http://www.regulations.gov, or by appointment, during normal business hours, at the U.S. Fish and Wildlife Service, Arizona Ecological Services Office (see FOR FURTHER INFORMATION CONTACT).

Background

Section 4(b)(3)(A) of the Endangered Species Act (Act) of 1973, as amended (16 U.S.C. 1531 et seq.), requires that we make a finding on whether a petition to list, delist, or reclassify a species presents substantial scientific or commercial information indicating that the petitioned action may be warranted. We are to base this finding on information provided in the petition and supporting information submitted with the petition. To the maximum extent practicable, we are to make this finding within 90 days of our receipt of the petition and publish our notice of the finding promptly in the Federal Register. Section 4(b)(3)(B) also requires that, for any petition to revise the Lists of Threatened and Endangered Wildlife and Plants that contains substantial scientific or commercial information that the action may be warranted, we make a finding within 12 months of the date of the receipt of the petition on whether the petitioned action is: (a) Not warranted, (b) warranted, or (c) warranted but precluded by other pending proposals. Such 12-month findings are to be published promptly in the Federal Register.

On December 19, 2003, we received a petition from the Center for Biological Diversity requesting that we list the northern Mexican gartersnake as threatened or endangered, and that we designate critical habitat concurrently with the listing. On May 17, 2005, the petitioners filed a complaint for declaratory and injunctive relief, challenging our failure to issue a 90-day finding in response to the petition as required by 16 U.S.C. 1533(b)(3)(A) and (B). In a stipulated settlement agreement, we agreed to submit a 90-day finding to the Federal Register by December 16, 2005, and, if the petition presented substantial scientific information indicating that listing the northern Mexican gartersnake may be warranted, submit a 12-month finding to the Federal Register by September 15, 2006 (Center for Biological Diversity v. Norton, CV-05-341-TUC-CKJ (D. Az)). On January 4, 2006, we published our 90-day finding that the petition presented substantial scientific information indicating that listing the northern Mexican gartersnake may be warranted and initiated a 12-month status review (71 FR 315).

On September 26, 2006, we published our 12-month finding that listing of the northern Mexican garter snake was not warranted because we determined that not enough information on the subspecies' status and threats in Mexico was known at that time (71 FR 56227).

Since the time of the 12-month finding, a formal opinion has been issued by the Solicitor of the Department of the Interior, “The Meaning of In Danger of Extinction Throughout All or a Significant Portion of Its Range” (U.S. DOI 2007), which provides further guidance on how to conduct a detailed analysis of whether a species is in danger of extinction throughout a significant portion of its range.

In December 2007, the Service withdrew the September 26, 2007, 12-month finding. This notice initiates a new status review for the northern Mexican gartersnake that is consistent with current policies, including any subsequent analysis relevant to the “significant portion of its range.” We will incorporate any new information received as requested above.

At this time, we are soliciting new information on the status of and potential threats to the northern Mexican gartersnake. We will base our new determination as to whether listing is warranted on a review of the best scientific and commercial information available, including all such information received as a result of this notice. For more information on the biology, habitat, and range of the northern Mexican gartersnake, please refer to our previous 90-day finding published in the Federal Register on January 4, 2006 (71 FR 315), and our previous 12-month finding published in the Federal Register on September 26, 2006 (71 FR 56227).

Author

The primary author of this notice is the staff of the Arizona Ecological Services Office.

Authority

The authority for this action is the Endangered Species Act of 1973 (16 U.S.C. 1531 et seq.).

Dated: May 9, 2008.
Kenneth Stansell,
Acting Director, U.S. Fish and Wildlife Service.

[FR Doc. E8-11756 Filed 5-27-08; 8:45 am]

BILLING CODE 4310-55-P